DEPARTMENT OF COMMERCE

National Oceanic and Atmospheric Administration

[RTID 0648-XF167]

Magnuson-Stevens Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Maine Department of Marine Resources. Regulations under the Magnuson-Stevens Fishery Conservation and Management Act and the Atlantic Coastal Fisheries Cooperative Management Act require publication of this notification to provide interested parties the opportunity to comment on applications for proposed EFPs.

DATES: Comments must be received on or before September 18, 2025.

ADDRESSES: You may submit written comments by the following method:

• Email: nmfs.gar.efp@noaa.gov. Include in the subject line “ME DMR 2025 On-demand EFP”.

All comments received are a part of the public record and will generally be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Caroline Potter, Fishery Resource Management Specialist, Caroline.Potter@noaa.gov, (978) 281-9325.

SUPPLEMENTARY INFORMATION: The Maine Department of Marine Resources (ME DMR) submitted a complete application for an EFP to conduct commercial fishing activities that the regulations would otherwise restrict to test alternative gear retrieval systems that only use one traditional surface buoy. This EFP would exempt the participating vessels from the following Federal regulations:

Table 1—Requested Exemptions
CFR citation | Regulation | Need for exemption
50 CFR 697.21(b)(2) | Gear marking requirements | For trial of trap/pot gear with no more than one surface marking on trawls of more than three traps.
50 CFR 648.84(b) | Gear marking requirements | For trial of gillnet gear with no more than one surface marking.

Table 2—Project Summary
Project title | Testing various acoustic on-demand, timed and spring-release fishing technologies that help minimize the risk of large whale entanglements in trap/pot and gillnet fishing gear in the Gulf of Maine.
Project Start | 11/1/2025.
Project End | 12/31/2026.
Project objectives | Provide access, training, and support to fishers in the Gulf of Maine to test acoustic on-demand, spring-, and timed-release fishing systems and acoustic gear geolocation technology. Data collected would help provide feedback to manufacturers to adapt to the specific needs of Maine fishers involved in fixed gear fleets. This work is important to reduce the risk associated with vertical lines to the endangered North Atlantic right whale in the Gulf of Maine.
Project location | Trap/pot: Lobster Management Area 1 and all Maine Lobster Conservation Zones (A, B, C, D, E, F, G). Gillnet: Statistical Areas 513, 514, 515.
Number of vessels | 65.
Number of trips, trip duration (days), total number of days, number of tows or sets, and duration of tows or sets | See project narrative.
Gear type(s) | Trap/pot and anchored gillnet.

Project Narrative

This EFP would allow federally permitted vessels to test alternative gears to reduce entanglement risk to protected species, mainly the North Atlantic right whale, in trap/pot and sink gillnet fisheries. There would be two components to this EFP, a gear library component, which is an assortment of devices and technologies to retrieve gear, and a gear geolocation component.

This EFP would allow for the continued research for a project that has been conducted under previously issued EFPs. Since the start of the project, ME DMR has conducted about 2,635 trap/pot hauls as part of the gear library component. Of these, about 2,117 hauls were conducted under the most recent EFP, which became effective May 1, 2024. No hauls have been conducted with gillnet gear and six hauls, which did not use active fishing traps, have been completed as part of the gear geolocation component.

The project objectives are to: (1) collect data on deployments and retrievals of various acoustic on-demand fishing gear within the trap/pot and gillnet fisheries in the Gulf of Maine; (2) provide support and training to fishers on various on-demand technologies; (3) assess fishing areas that may be best suited for adopting the tested retrieval systems; (4) increase familiarity of on-demand gear within the trap/pot and gillnet fisheries; (5) provide feedback to on-demand fishing gear manufacturers to increase performance under commercial fishery conditions; (6) trial gear geolocation and marking systems that promote interoperability for fishers and management; and (7) compare the relative precision of various gear geolocation technologies to improve understanding of how transitioning to acoustic technologies may impact fishing behavior.

For the gear library component, participating vessels would replace one traditional surface marking with their choice of alterative gear available in the Maine Innovative Gear Library. Currently, there are several options including, but not limited to: (1) buoy and stowed rope systems (e.g., Sub Sea Sonics, Ashored, Edgetech); (2) lift-bag systems (e.g., SMELTS, Ropeless Systems); (3) stowed rope/timed release (e.g., Nova Robotics); and (4) stowed rope/spring release (e.g., Nova Robotics). Vessels would be required to use one traditional surface marking on one end of trap trawls of more than three traps and on all gillnet gear. For trap trawls of fewer than three traps, vessels would still use one traditional surface marking, in addition to the on-demand retrieval system; therefore, there would be no fully ropeless trawls. Other than gear markings, all trap trawls and gillnet strings would be consistent with the regulations of the management area where the vessel is fishing and would be fished in accordance with the participating vessels' standard operations (i.e., number and length of trips, soak times, trap limits, etc.). Because the on-demand systems would replace buoyed systems that the fishermen would otherwise be fishing, the gear library component would not increase fishing effort.

For the geolocation component, vessels would use acoustic positioning systems from Teledyne Benthos, Ropeless Systems, Ashored, Nova Robotics, or Advanced Navigation. Each of these systems uses a surface unit to communicate with a unit on the seafloor to determine the gear's geolocation. Vessels would set up to three trawls at different distances apart, within a 1 kilometer radius. Trawls would be allowed to soak no longer than 1 hour each. Up to 10 discrete, single-day gear geolocation trials would be conducted within the fishing year, resulting in a maximum of 150 gear retrievals for the geolocation component. In instances where traps are used, they would not have fresh bait. These trials would increase trap/pot effort via short soaks and high rate of retrieval. However, catch per unit effort would be reduced. The focus of the geolocation component would be to test the acoustic positioning systems to determine the extent of difference between acoustic geolocation and surface buoy or surface GPS geolocation, as well as testing the performance of the different acoustic positioning systems in an environment where multiple acoustic signals are being transmitted simultaneously.

ME DMR researchers anticipate, for the gear library component, up to 6,240 trap/pot trawl retrievals and up to 500 gillnet string retrievals, and up to an additional 150 retrievals of trap/pot trawls for the gear geolocation component. Trap trawls would be consistent with Atlantic Large Whale Take Reduction Plan (ALWTRP) regulations. Trawls would not exceed 50 traps per trawl and the gear library component trawls would soak for no shorter than 3 days and no longer than 30 days. Gillnets would be consistent with ALWTRP and Harbor Porpoise Take Reduction Plan regulations. Gillnets would use 15-30.5 cm mesh, would not exceed 3,200 m, and are estimated to soak for no more than 24 hours. Any legal catch would be sold to a dealer.

To maximize data collection and participation, ME DMR requests flexibility to modify the participant vessel list with the ability to list up to 65 fishermen and up to 7 gillnet fishermen on the EFP. ME DMR would submit modifications to the active participants list at least 1 month in advance of any changes.

ME DMR or partnering organizations and a representative from gear manufacturers would distribute gear and train all participants on its use. Scientific observers may accompany the participants on up to two trips per vessel, within budget and safety limitations. ME DMR would provide standardized data collection sheets to all participants. Individually identifiable data would only be made available via consent of the participants.

ME DMR has requested to exempt trap/pot participants from EFP trip reporting requirements. ME DMR states that this requirement is a barrier to recruiting fishermen for this project and is duplicative of the required electronic vessel trip reporting. This project would build on the research conducted under a previous EFP (DA23-076), which waived the EFP trip report requirement.

ME DMR has proposed the following best practices and risk management:

• Buoy lines associated with this project would contain unique white and blue markings above the required regional markings;

• Weekly mandatory gear loss reporting;

• After release, the on demand vertical line would be retrieved as quickly as possible to minimize time in the water column;

• Visual right whale sightings would be recorded on data sheets and fishermen would notify NMFS via email (ne.rw.survey@noaa.gov) or via phone (866-755-6622), or the U.S. Coast Guard via radio (Channel 16);

• Typical soak time is anticipated to be less than 14 days and no longer than 30 days (weather permitting and without unforeseen circumstances);

• Project vessels would adhere to a 10-knot speed limit when transiting dynamic management areas, transiting areas closed to vertical lines, and/or whales are observed;

• All vessels would adhere to current approach regulations that create a 500-yard (457.2-meter) buffer zone in the presence of a surfacing right whale and would depart immediately at a safe and slow speed. Hauling any fishing gear would cease once the entire string or trawl is aboard the vessel, to accommodate the regulation, and be redeployed only after it is reasonable to assume the whale has left the area;

• Law enforcement agencies, including Maine Marine Patrol and NOAA Office of Law Enforcement, would be notified of project participants and activities in advance of the project start date. Materials related to the redeployment of alternative retrieval gear systems would be provided along with this notice. Law enforcement would be able to inspect gear at any time as usual, because at least one traditional endline would be present at all times. Law enforcement would be provided with the information necessary to continue relevant enforcement operations with participant gear;

• Trap Tracker or an equivalent application would be utilized for acoustic on-demand retrieval and set positioning details and would be available to Federal, State, and corresponding enforcement personnel;

• Gear locations would be available to those who have downloaded gear marking applications, but otherwise locations would be treated with sensitivity to mitigate the possibility of gear molestation from members of the public who oppose project activities;

• Project updates would be updated through the ME DMR website for public awareness of general activities related to this EFP; and

• Premature deployments of on-demand gear would be documented and would be retrieved as soon as circumstances (e.g., weather) allow.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: August 28, 2025.
Kelly Denit,
Director, Office of Sustainable Fisheries, National Marine Fisheries Service.

[FR Doc. 2025-16829 Filed 9-2-25; 8:45 am]

BILLING CODE 3510-22-P